DEPARTMENT OF HEALTH AND HUMAN SERVICES

Office of the Secretary; Office of Minority Health

Notice of a Cooperative Agreement With the ASPIRA Association, Inc.

AGENCY: Office of the Secretary, Office of Minority Health, HHS.

ACTION: Notice of a cooperative agreement with the ASPIRA Association, Inc.

The Office of Minority Health (OMH), Office of Public Health and Science, announces its intent to continue support of the umbrella cooperative agreement with the ASPIRA Association, Inc. (ASPIRA). This cooperative agreement will continue the broad programmatic framework in which specific projects can be supported by various governmental agencies during the project period.

The purpose of this cooperative agreement is to assist the national association in expanding and enhancing its activities relevant to education, health promotion, disease prevention, and family and youth violence prevention, with the ultimate goal of improving the health status of minorities and disadvantaged people.

The OMH will provide technical assistance and oversight as necessary for the implementation, conduct, and assessment of the project activities. On an as-needed basis, OMH will assist in arranging consultation from other government agencies and non-government agencies.

Authority: This cooperative agreement is authorized under Section 1707(e)(1) of the Public Health Service Act, as amended.

Background: Assistance will continue to be provided to ASPIRA. During the last three years, ASPIRA has successfully demonstrated the ability to work with health agencies on mutual education, service, and research endeavors. The ASPIRA is uniquely qualified to continue to accomplish the purposes of this cooperative agreement because it has the following combination of factors:

• It has developed, expanded, and managed an infrastructure to coordinate and implement various educational programs within local communities and organizations that deal extensively with Hispanic issues. These programs provide a foundation upon which to develop, promote, and manage education and health-related programs aimed at preventing and reducing unnecessary morbidity and mortality among Hispanic populations.

• It has established itself and its members as a national association with professionals who serve as leaders and experts in planning, developing, implementing, and promoting educational and policy campaigns (locally and nationally) aimed at reducing adverse health behaviors and improving the Hispanic community's overall educational and social well being.

• It has assessed and evaluated data, through its Institute for Policy Research and its National Health Careers Program, on the current education, violence, and health-related findings relevant to Hispanics and other populations for dissemination to its associate members, collaborators, funders, and the general public.

• It has developed a national association whose members consist of professionals with excellent performance records and established linkages to the Hispanic population at the national and local level.

• It has developed an information management system to track programmatic outcomes and evaluate best practices for future dissemination.

• It has an inventory of critical knowledge, skills, and abilities related to serving Hispanic clients on a range of health and social problems.

This cooperative agreement will be continued for an additional 5-year project period with 12-month budget periods. Depending upon the types of projects and availability of funds, it is anticipated that this cooperative agreement will receive approximately $100,000 per year. Continuation awards within the project period will be made on the basis of satisfactory progress and the availability of funds.

Where To Obtain Additional Information

If you are interested in obtaining additional information regarding this cooperative agreement, contact Ms. Cynthia Amis, Office of Minority Health, 5515 Security Lane, Suite 1000, Rockville, Maryland 20852 or telephone (301) 594-0769.

OMB Catalog of Federal Domestic Assistance

The Catalog of Federal Domestic Assistance Number for this cooperative agreement is 93.004.

Dated: March 30, 2000.
Nathan Stinson, Jr.,
Deputy Assistant Secretary for Minority Health.

[FR Doc. 00-9147 Filed 4-12-00; 8:45 am]

BILLING CODE 4160-17-P